DEPARTMENT OF JUSTICE

Drug Enforcement Administration

[Docket No. DEA-392]

Importer of Controlled Substances Registration: Chattem Chemicals, Inc.

ACTION: Notice of registration.

SUMMARY: Chattem Chemicals, Inc. applied to be registered as an importer of certain basic classes of controlled substances. The DEA grants Chattem Chemicals, Inc. registration as an importer of those controlled substances.

SUPPLEMENTARY INFORMATION: By notice dated September 26, 2014, and published in the Federal Register on October 7, 2014, 79 FR 60501, Chattem Chemicals, Inc., 3801 St. Elmo Avenue, Chattanooga, Tennessee 37409, applied to be registered as an importer of certain basic classes of controlled substances. No comments or objections were submitted for this notice. Comments and requests for hearings on applications to import narcotic raw material are not appropriate. 72 FR 3417, (January 25, 2007).

The Drug Enforcement Administration (DEA) has considered the factors in 21 U.S.C. 823, 952(a) and 958(a) and determined that the registration of Chattem Chemicals, Inc. to import those basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 952(a) and 958(a), and in accordance with 21 CFR 1301.34, the above-named company is granted registration as an importer of the basic classes of controlled substances:

Controlled Substance | Schedule
Methamphetamine (1105) | II
4-Anilino-N-phenethyl-4-piperidine (8333) | II
Phenylacetone (8501) | II
Opium, raw (9600) | II
Poppy Straw Concentrate (9670) | II
Tapentadol (9780) | II

The company plans to import the listed controlled substances to manufacture bulk controlled substances for sale to its customers. The company plans to import an intermediate form of tapentadol (9780), to bulk manufacture tapentadol for distribution to its customers.

On October 16, 2014, Chattem Chemicals, Inc. withdrew its request for the addition of thebaine (9333) to this registration.

Dated: January 28, 2015.
Joseph T. Rannazzisi,
Deputy Assistant Administrator.

[FR Doc. 2015-02244 Filed 2-4-15; 8:45 am]

BILLING CODE P